DEPARTMENT OF ENERGY

Federal Energy Regulatory Commission

[Project No. 405-097]

Exelon Generation Company, LLC; Notice of Panel Meeting and Technical Conference Details

August 12, 2010.

On August 3, 2010, Commission staff, in response to the filing of a notice of study dispute by the Maryland Department of Environment (Maryland DOE) convened a single three-person Dispute Resolution Panel (Panel) pursuant to 18 CFR 5.14(d). Maryland DOE disputed the Commission's study determinations on the following studies: (1) Seasonal and diurnal water quality in Conowingo Pond and below Conowingo dam (study 3.1); (2) downstream fish passage effectiveness study (study 3.2); (3) hydrologic study of the lower Susquehanna River (study 3.11); and (4) characterization of downstream aquatic communities (study 3.18). On July 21, 2010, the Commission issued a Notice of Dispute Resolution Process Schedule, Panel Meeting and Technical Conference. The technical conference date is repeated below with additional logistical details.

The purpose of the technical conference is for the disputing agencies, applicants, and Commission to provide the Panel with additional information necessary to evaluate the disputed study. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant.

Technical Conference

Date: Tuesday, August 31, 2010.

Time: 8:30 a.m.-5 p.m.

Place: Darlington Fire Station, 2600 Castleton Road, Darlington, Maryland.

Kimberly D. Bose,
Secretary.

[FR Doc. 2010-20459 Filed 8-17-10; 8:45 am]

BILLING CODE 6717-01-P